CONSUMER PRODUCT SAFETY COMMISSION

16 CFR Ch. II

Semiannual Regulatory Agenda

AGENCY: Consumer Product Safety Commission.

ACTION: Semiannual regulatory agenda.

SUMMARY: In this document, the Commission publishes its semiannual regulatory flexibility agenda. In addition, this document includes an agenda of regulatory actions the Commission expects to be under development or review by the agency during the next year. This document meets the requirements of the Regulatory Flexibility Act and Executive Order 12866.

DATES: The Commission welcomes comments on each subject area of the agenda, particularly from small businesses, small organizations, and other small entities. Written comments concerning the agenda should be received in the Office of the Secretary by July 31, 2013.

ADDRESSES: Comments on the regulatory flexibility agenda should be captioned “Regulatory Flexibility Agenda” and be emailed to cpsc-os@cpsc.gov or filed by fax to (301) 504-0127. Comments may also be mailed or delivered to the Office of the Secretary, Consumer Product Safety Commission, Room 820, 4330 East West Highway, Bethesda, MD 20814-4408.

FOR FURTHER INFORMATION CONTACT: For further information on the agenda in general, contact Eileen J. Williams, Office of the General Counsel, Consumer Product Safety Commission, 4330 East West Highway, Bethesda, MD 20814-4408; ewilliams@cpsc.gov. For further information regarding a particular item on the agenda, consult the individual listed in the column headed “Contact” for that particular item.

SUPPLEMENTARY INFORMATION: The Regulatory Flexibility Act (RFA) (5 U.S.C. 601 to 612) contains several provisions intended to reduce unnecessary and disproportionate regulatory requirements on small businesses, small governmental organizations, and other small entities. Section 602 of the RFA (5 U.S.C. 602) requires each agency to publish twice each year a regulatory flexibility agenda containing a brief description of the subject area of any rule expected to be proposed or promulgated that is likely to have a “significant economic impact” on a “substantial number” of small entities. The agency must also provide a summary of the nature of the rule and a schedule for acting on each rule for which the agency has issued a notice of proposed rulemaking.

The regulatory flexibility agenda is also required to contain the name and address of the agency official knowledgeable about the items listed. Further, agencies are required to provide notice of their agendas to small entities and to solicit their comments by direct notification, or by inclusion in publications likely to be obtained by such entities.

Additionally, Executive Order 12866 requires each agency to publish twice each year a regulatory agenda of regulations under development or review during the next year, and states that such an agenda may be combined with the agenda published in accordance with the RFA. The regulatory flexibility agenda lists the regulatory activities expected to be under development or review during the next 12 months. It includes all such activities, whether or not they may have a significant economic impact on a substantial number of small entities. This agenda also includes regulatory activities that appeared in the September 2012 agenda and have been completed by the Commission prior to publication of this agenda.

The agenda contains a brief description and summary of each regulatory activity, including the objectives and legal basis for each; an approximate schedule of target dates, subject to revision, for the development or completion of each activity; and the name and telephone number of a knowledgeable agency official concerning particular items on the agenda. Agency contacts are located at one of two addresses: Consumer Product Safety Commission, 4330 East West Highway, Bethesda, MD 20814-4408 or Consumer Product Safety Commission, 5 Research Place, Rockville, MD 20850.

Beginning with the fall 2007 edition, the Internet became the basic means for dissemination of the Unified Agenda. The complete Unified Agenda will be available online at: www.reginfo.gov, in a format that offers users a greatly enhanced ability to obtain information from the agenda database.

Because publication in the Federal Register is mandated for the regulatory flexibility agendas required by the Regulatory Flexibility Act (5 U.S.C. 602), the Commission's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's agenda requirements. Additional information on these entries is available in the Unified Agenda published on the Internet.

Dated: April 24, 2013.
Todd A. Stevenson,
Secretary, Consumer Product Safety Commission.

Consumer Product Safety Commission—Completed Actions
Sequence No. | Title | Regulation Identifier No.
302 | Testing and Labeling Pertaining to Product Certification Regarding Representative Samples for Periodic Testing of Children's Products | 3041-AD14
303 | Products Containing Imidazolines Equivalent to 0.08 Milligrams or More | 3041-AD18

CONSUMER PRODUCT SAFETY COMMISSION (CPSC)

Completed Actions

302. Testing and Labeling Pertaining to Product Certification Regarding Representative Samples for Periodic Testing of Children's Products

Legal Authority: 15 U.S.C. 2063, sec 3, 102 Pub. L. 110-314, 122 Stat 3016, 3017, 3022

Abstract: On August 12, 2011, the President signed H.R. 2715 into law. Among other things, H.R. 2715, now Public Law 112-28, replaced the requirement in section 14(i)(2)(B)(ii) of the CPSA for the testing of “random samples” with a requirement for the testing of “representative samples.” On September 21, 2011, CPSC staff submitted a briefing package to the Commission with a proposed rule to implement this new statutory requirement. The proposed rule would amend 16 CFR 1107. On October 19, 2011, the Commission voted unanimously to publish the proposed rule in the Federal Register. The proposed rule was published on November 8, 2011, and the comment period ended on January 23, 2012. On June 20, 2012, CPSC staff submitted to the Commission for its consideration a briefing package with a draft final rule. On July 6, 2012, the Commission voted 2-2 on whether to publish the final rule in the Federal Register. The Commission reconsidered the matter on November 28, 2012 and voted to approve the draft final rule. The final rule was published in the Federal Register on December 5, 2012, with an effective date of February 8, 2013.

Timetable:

Action | Date | FR Cite
Staff Sent Briefing Package to Commission | 09/21/11 |
NPRM | 11/08/11 | 76 FR 69586
Commission Decision | 10/19/11 |
NPRM Comment Period End | 01/23/12 |
Staff Sends Briefing Package to Commission | 06/20/12 |
Commission Vote (No Majority) | 07/06/12 |
Commission Decision | 11/28/12 |
Final Rule Published in the Federal Register | 12/05/12 | 77 FR 72205

Regulatory Flexibility Analysis Required: Yes.

Agency Contact: Randy Butturini, Project Manager, Consumer Product Safety Commission, Office of Hazard Identification and Reduction, 4330 East West Highway, Bethesda, MD 20814, Phone: 301 504-7562, Email: rbutturini@cpsc.gov.

RIN: 3041-AD14

303. Products Containing Imidazolines Equivalent to 0.08 Milligrams or More

Legal Authority: 15 U.S.C. sec 1471 to 1477

Abstract: Pursuant to the Poison Prevention Packaging Act of 1970, the Commission is considering a proposed rule that would require child-resistant (“CR”) packaging for any over-the-counter or prescription product containing the equivalent of 0.08 milligrams or more of an imidazoline, a class of drugs that includes tetrahydrozoline, naphazoline, oxymetazoline, and xylometazoline, in a single package. Products containing imidazolines can cause serious adverse reactions, such as central nervous system (“CNS”) depression, decreased heart rate, and depressed ventilation in children treated with these drugs or who accidentally ingest them. CPSC staff submitted a briefing package on the proposed rule for Commission consideration on January 11, 2012. The Commission found preliminarily that availability of 0.08 milligrams or more of an imidazoline in a single package, by reason of its packaging, is such that special packaging is required to protect children under 5 years old from serious personal injury or illness due to handling, using, or ingesting such a substance. On January 18, 2012, the Commission voted unanimously to publish the proposed rule in the Federal Register. The proposed rule published on January 25, 2012, and the comment period ended on April 9, 2012. The final briefing package was sent to the Commission on October 7, 2012, the ballot vote was accepted unanimously on November 8, 2012, and the final rule was published December 10, 2012 (77 FR 73294). Companies are required to comply with the final rule by December 10, 2013, or notify staff of their intent to avail themselves of a one year stay of enforcement until December 10, 2014, conditioned upon meeting certain requirements set forth in the preamble to the final rule.

Timetable:

Action | Date | FR Cite
Staff Sent Briefing Package to Commission | 01/11/12 |
Commission Decision | 01/18/12 |
NPRM | 01/25/12 | 77 FR 3646
NPRM Comment Period End | 04/09/12 |
Staff Sent Briefing Package | 11/08/12 |
Commission Decision | 11/20/12 |
Final Rule Published in the Federal Register | 12/10/12 | 77 FR 73294

Regulatory Flexibility Analysis Required: Yes.

Agency Contact: Cheryl Osterhout, Project Manager, Consumer Product Safety Commission, Directorate for Health Sciences, 5 Research Place, Rockville, MD 20850, Phone: 301 987-2572, Email: costerhout@cpsc.gov.

RIN: 3041-AD18

[FR Doc. 2013-17170 Filed 7-22-13; 8:45 am]

BILLING CODE 6355-01-P